DEPARTMENT OF TRANSPORTATION

Coast Guard

33 CFR Parts 100, 110 and 165

[CGD01-99-203]

RIN 2115-AA98, AA 84, AE46

Temporary Regulations: OPSAIL 2000, Port of New London, CT

AGENCY: Coast Guard, DOT.

ACTION: Temporary final rule. —

SUMMARY: The Coast Guard is establishing temporary regulations in Niantic Bay, Long Island Sound, the Thames River, and New London Harbor for OPSAIL 2000 Connecticut activities. This action is necessary to provide for the safety of life on navigable waters during OPSAIL 2000 Connecticut. This action is intended to restrict vessel traffic in portions of Niantic Bay, Long Island Sound, the Thames River, and New London Harbor.

DATES: This temporary rule is effective from 6 a.m., on July 11, 2000 until 5 p.m., on July 12, 2000.

ADDRESSES: Comments and related material received from the public, as well as documents indicated in this preamble as being available in the docket, are part of docket [CGD01-99-203] and are available for inspection or copying at Coast Guard Group/Marine Safety Office Long Island Sound, 120 Woodward Ave., New Haven, CT 06512-3698, in the Readiness/Support Department.

FOR FURTHER INFORMATION CONTACT: Master Chief Kenneth G. Dolan, Group/MSO Long Island Sound, New Haven, Connecticut, (203) 468-4429.

SUPPLEMENTARY INFORMATION:

Regulatory Information

On March 28, 2000 we published a notice of proposed rulemaking (NPRM) entitled “Temporary Regulations: OPSAIL 2000, Port of New London, CT” in the Federal Register (65 FR 16358). We received 1 letter commenting on the proposed rule. No public hearing was requested, and none was held.

Background and Purpose

The temporary regulations are for OPSAIL 2000 Connecticut events in Niantic Bay, Long Island Sound and New London Harbor. These events will be held on July 11-12, 2000. The rule will provide for the safety of life and property on navigable waters.

Discussion of Comments and Changes

Only one letter was received by Group/MSO Long Island Sound concerning the lack of a plan in the rulemaking and the Marine Permit Application Transmittal Form and the Connecticut Coastal Consistency Review Form for minimization of water pollution from litter and sanitary wastes. The issues raised in the comment are outside the scope of this rulemaking. However, the issue of water pollution is being addressed in the marine permit process and the coastal zone management consistency certification process. Participants and spectators are reminded that it is a violation of federal law to dump plastic, trash or sewage within three nautical miles of shore. Marine waste pump-out facilities are available in the Niantic Bay/New London Harbor area and are listed in the State of Connecticut “Boater's Guide”.

Some minor adjustments in the coordinates of Anchorage Area J and Anchorage I/Safety Zone 1 have been made.

Discussion of Temporary Rule

Operation Sail, Inc. is sponsoring a Parade of Tall Ships into New London Harbor. The Tall Ships and participating vessels will be at anchorage in Niantic Bay on July 11, 2000. On July 12, 2000, the Tall Ships and participating vessels will transit from Niantic Bay via Long Island Sound and the Thames River Federal Channel to the Port of New London. The Coast Guard expects a minimum of 5,000 spectator craft for this event. The temporary regulations create vessel movement controls, safety zones and temporary anchorage regulations. The regulations will be in effect at various times in Niantic Bay, Long Island Sound and New London Harbor during July 11 and 12, 2000. The vessel congestion due to the large number of participating and spectator vessels poses a significant threat to the safety of life and property. This temporary rulemaking is necessary to ensure the safety of life and property on the navigable waters of the United States.

Regulated Areas

The Coast Guard is establishing one temporary regulated area in Niantic Bay during July 11-12, 2000. This temporary Regulated Area A is needed to protect the maritime public and participating vessels from possible hazards to navigation associated with the overnight anchoring of a large number of Tall Ships and their departure prior to the beginning of the Parade of Tall Ships into New London Harbor on July 12, 2000.

Regulated Area A includes all waters of Niantic Bay located on Long Island Sound within the following boundaries: Beginning at a point 300 yards, bearing 203°(T from Wigwam Rock 41°18′53″N, 072°11′48″ W (NAD 1983), then to 41°18′53″ N, 072°10′38″ W (NAD 1983), then to 41°16′40″ N, 072°10′38″ W (NAD 1983), then to 41°16′40″ N, 072°11′48″ W (NAD 1983). This proposed area will be used as an anchorage area for vessels participating in the Parade of Tall Ships on July 12, 2000. This proposed regulated area is effective from 6 a.m., July 11, 2000 until 5 p.m., on July 12, 2000. Vessels transiting Regulated Area A must do so at no wake speed or at speeds not to exceed 6 knots, whichever is less. Vessels transiting Regulated Area A must not maneuver within 100 yards of a Tall Ship or other vessel participating in OPSAIL 2000, unless authorized by the Captain of the Port or the Captain of the Port's on-scene representative.

Anchorage Regulations

The Coast Guard is establishing temporary Anchorage Regulations for participating OPSAIL 2000 vessels and spectator craft. Current Anchorage Regulations in 33 CFR 110.147 will be temporarily suspended by this regulation and other Anchorage Grounds will be temporarily established.

The temporary anchorage regulations designate selected current or temporarily established Anchorage Grounds for spectator or OPSAIL 2000 participant vessel use only. They restrict all other vessels from using these anchorage grounds during various portions of the OPSAIL 2000 event. The anchorage grounds are needed to provide viewing areas for spectator vessels while maintaining a clear parade route for the participating OPSAIL vessels and to protect boaters and spectator vessels from the hazards associated with the Parade of Tall Ships.

The Coast Guard will temporarily suspend Anchorage Area C (see 33 CFR § 110.147(3)), and redesignate it as Anchorage Area G, exclusively for spectator vessels exceeding 50 feet in length, carrying passengers for the viewing of the Tall Ships parade. Anchorage Area G will be established from 7:30 a.m., until 5 p.m., on July 12, 2000. The Coast Guard will temporarily establish Anchorage Area H in Niantic Bay exclusively for the vessels participating in the Parade of Tall Ships. Anchorage Area H in Niantic Bay will be established from 6 a.m., on July 11, 2000 until 5 p.m., on July 12, 2000. Anchorage Area H is the same area designated as Regulated Area A. Therefore, within this area, vessels other than those participating in OPSAIL 2000 may not anchor and must transit at reduced speeds staying at least 100 yards away from any OPSAIL 2000 vessel. The Coast Guard will temporarily establish Anchorage Area I in the Thames River in the vicinity of the State Pier exclusively for vessels who have participated in the Parade of Tall Ships. Anchorage Area I will be established from 7:30 a.m., on July 12, 2000 until 5 p.m., on July 12, 2000. The Coast Guard will temporarily establish Anchorage Area J exclusively for spectator vessels exceeding 50 feet in length carrying passengers for the viewing of the Tall Ships parade. Anchorage Area J includes all waters of the Thames River southward of New London Harbor, on the east side of the Federal Channel within the following boundaries: Beginning at a point bearing 245°T, 480 yards from Eastern Point 41°19′03″N, 072°04′48″ W (NAD 1983), then to position 41°19′04″ N, 072°04′33″ W (NAD 1983), then to position 41°18′42″ N, 072°04′30″ W (NAD 1983), then to position 41°18′40″ N,072°04′45″ W (NAD 1983). Anchorage Area J will be established from 7:30 a.m., until 5 p.m., on July 12, 2000.

Safety Zones

The Coast Guard will establish two safety zones in the waters of Long Island Sound and New London Harbor. Safety Zone 1 includes all waters of the Thames River in New London Harbor, in the vicinity of the State Pier within the following boundaries: Beginning at a point located on the west shore line of the Thames River 25 yards below the Thames River Railroad Bridge, position 41°21′46″ N, 072°05′23″ W (NAD 1983), then to position 41°21′46″ N, 072°05′16″ W (NAD 1983), then south along the western limit of the Federal Channel to position 41°20′37″ N, 072°05′8.7″ W (NAD 1983), then to position 41°20′37″ N, 072°05′33″ W (NAD 1983), then along the shoreline to position 41°21′46″ N, 072°05′23″ W (NAD 1983). This safety zone will be used as a mooring and turning area for the Parade of Tall Ships at the conclusion of the parade and is effective from 7:30 a.m., on July 12, 2000, until 5 p.m., on July 12, 2000. Safety Zone 1 consists of the same area as Anchorage I.

Safety Zone 2 covers all waters of the Thames River within the following boundaries: Beginning at the east side of the Federal Channel at the Thames River Rail Road Bridge in the Port of New London, in position 41°21′47.0″ N, 072°05′14.0″ W (NAD 1983), then southward along the east side of the Federal Channel to the New London Harbor Channel Lighted Buoy “2” (LLNR 21790) in approximate position 41°17′38″ N, 072°04′40″ W (NAD 1983), then to Bartlett Reef Lighted Bell Buoy “4” (LLNR 21065) in approximate position 41°15′38″ N, 072°08′22″ W (NAD 1983), then south to Bartlett Reef Lighted Buoy “1” (LLNR 21065) in approximate position 41°16′28″ N, 072°07′54″ W (NAD 1983), then to an area located, bearing 192°T, approximately 325 yards from Rapid Rock Buoy “R” (LLNR 21770) 41°17′07″ N, 072°06′09″ W (NAD 1983), then to position 41°18′04″ N, 072°04′50″ W, (NAD 1983), which meets the west side of the Federal Channel, then along the west side of the Federal Channel to the Thames River Railroad Bridge in the Port of New London, in the position 41°21′46″ N, 072°05′23″ W (NAD 1983). This area will be used for the parade route of Tall Ships and is effective from 7:30 a.m., on July 12, 2000, until 5 p.m., on July 12, 2000. No vessel may transit within Safety Zones 1 or 2 unless authorized by the Coast Guard Captain of the Port, Long Island Sound, or his on-scene representative.

Regulatory Evaluation

This temporary rule is not a significant regulatory action under section 3(f) of Executive Order 12866 and does not require an assessment of potential costs and benefits under section 6(a)(3) of that Order. It has not been reviewed by the Office of Management and Budget under that Order. It is not significant under the regulatory policies and procedures of the Department of Transportation (DOT) (44 FR 11040; February 26, 1979).

The Coast Guard expects the economic impact of this proposed rule to be so minimal that a full Regulatory Evaluation under paragraph 10e of the regulatory policies and procedures of DOT is unnecessary.

Although this regulation prevents traffic from transiting a portion of Long Island Sound, Niantic Bay, and the Thames River during the events, the effect of this regulation will not be significant for the following reasons: The limited duration that the regulated areas will be in effect, mariners will be able to transit around these areas and the extensive advance notifications that will be made to the maritime community via the Local Notice to Mariners, facsimile, marine information broadcasts, local area committee meetings, and New London area newspapers. Mariners will be able to adjust their plans accordingly based on the extensive advance information. Additionally, these regulated areas have been narrowly tailored to impose the least impact on maritime interests yet provide the level of safety deemed necessary.

Small Entities

Under the Regulatory Flexibility Act (5 U.S.C. 601 et seq.), we considered whether this rule would have a significant economic impact on a substantial number of small entities. “Small entities” include small businesses, not-for-profit organizations that are independently owned and operated and are not dominant in their fields, and governmental jurisdictions with populations of less than 50,000.

For the reasons stated in the Regulatory Evaluation section above, the Coast Guard certifies under 5 U.S.C. 605(b) that this rule will not have a significant economic impact on a substantial number of small entities. This temporary rule will affect the following entities, some of which might be small entities: the owners or operators of vessels intending to transit through Niantic Bay, portions of Long Island Sound and New London Harbor during various times from July 11-12, 2000. Although these regulations apply to a substantial portion of Niantic Bay and New London Harbor, designated areas for viewing the Parade of Sail have been established to allow for maximum use of the waterways by commercial tour boats that usually operate in the affected areas. Vessels, including commercial traffic, will be able to transit around the designated areas. At no time will the Port of New London be closed to commercial traffic. Before the effective period, the Coast Guard will make notifications to the public via mailings, facsimiles, the Local Notice to Mariners and use of the sponsors Internet site. In addition, the sponsoring organization, OPSAIL, Inc., is planning to publish information of the event in local newspapers, pamphlets, and television and radio broadcasts.

Assistance for Small Entities

Under section 213(a) of the Small Business Regulatory Enforcement Fairness Act of 1996 (Pub. L. 104-121), we offered to assist small entities in understanding the rule so that they could better evaluate its effects on them and participate in the rulemaking process. No assistance was requested. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this temporary rule under E.O. 13132 and have determined that this rule does not have implications for federalism under that Order.

Unfunded Mandates

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This temporary rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13405, Protection of Children from Environmental Health Risks and Safety Risks. This rule is not an economically significant rule and does not concern an environmental risk to health or risk to safety that may disproportionately affect children.

Environment

The Coast Guard considered the environmental impact of this temporary rule and concluded that, under figure 2-1, paragraphs 34(f and h), of Commandant Instruction M16475.1C, this proposed rule is categorically excluded from further environmental documentation. A written Categorical Exclusion Determination is available in the docket for inspection or copying where indicated under ADDRESSES.

List of Subjects

33 CFR 100

Marine safety, Navigation (water), Reporting and recordkeeping requirements, Waterways.

33 CFR 110

Anchorage grounds.

33 CFR 165

Harbors, Marine Safety, Navigation (water), Reporting and recordkeeping requirements, Security measures, Waterways.

Temporary Regulation

For the reasons discussed in the preamble, the Coast Guard amends 33 CFR Parts 100, 110 and 165 as follows:

PART 100—[AMENDED]

1. The authority citation for Part 100 continues to read as follows:

Authority: 33 U.S.C. 1233 through 1236; 49 CFR 1.46; 33 CFR 100.35.

2. Add temporary § 100.35T01-203 to read as follows:

§ 100.35T01-203 Special Local Regulations: OPSAIL 2000 CT, Long Island Sound and the Thames River, Connecticut.

(a) Regulated Area A Location. All waters of Niantic Bay located on Long Island Sound within the following boundaries: beginning at a point 300 yards, bearing 203°T from Wigwam Rock 41°18′53″ N, 072°11′48″ W (NAD 1983), then to 41°18′53″ N, 072°10′38″ W (NAD 1983), then to 41°16′40″ N, 072°10′38″ W (NAD 1983), then to 41°16′40″ N, 072°11′48″ W (NAD 1983).

(b) Special local regulations. (1) Vessels transiting Area A must do so at no wake speed or at speeds not to exceed 6 knots, whichever is less.

(2) Vessels transiting Area A must not maneuver within 100 yards of a Tall Ship or an OPSAIL participating vessel unless they are specifically authorized to do so by Coast Guard Captain of the Port, Long Island Sound, or his on-scene representative.

(c) Effective period. This section is effective from 6 a.m., July 11, 2000 until 5 p.m., on July 12, 2000.

PART 110—ANCHORAGE REGULATIONS

3. The authority citation for part 110 continues to read as follows:

Authority: 33 U.S.C. 471, 1221 through 1236, 2030, 2035 and 2071; 49 CFR 1.46 and 33 CFR 1.05-1(g).

4. From July 11, 2000 through July 12, 2000, § 110.147 is amended as follows:

a. Paragraph (a)(3) is temporarily suspended and new paragraphs (a)(7), (a)(8), (a)(9) and (a)(10) are temporarily added.

§ 110.147 New London Harbor, Conn.

(6) * * *

(7) Anchorage Area G. In the Thames River southward of New London Harbor, bounded by lines connecting a point bearing 100°, 450 yards from New London Harbor Light, a point bearing 270°, 575 yards from New London Ledge Light (latitude 41°;18′21″ N., longitude 72°04′41″ W.), and a point bearing 270°, 1450 yards from New London Ledge Light. From 7:30 a.m., on July 12, 2000 through 5 p.m., on July 12, 2000, this anchorage is designated for the exclusive use of spectator vessels exceeding 50 feet in length carrying passengers for the viewing of the Tall Ships parade

(8) Anchorage Area H. All waters of Niantic Bay located on Long Island Sound within the following boundaries: beginning at a point 300 yards, bearing 203Tfrom Wigwam Rock 41°18′53″N, 072°11′48″W (NAD 1983), then to 41°18′53″N, 072°10′38″W (NAD 1983), then to 41°16′40″N, 072°10′38″W (NAD 1983), then to 41°16′40″N, 072°11′48″W (NAD 1983). From 6 a.m., July 11, 2000 until 5 p.m., on July 12, 2000, this anchorage is designated exclusively for the use of vessels participating in the Parade of Tall Ships into New London Harbor on July 12, 2000.

(9) Anchorage I. All waters of the Thames River in New London Harbor, in the vicinity of the State Pier within the following boundaries: beginning at a point located on the west shore line of the Thames River 25 yards below the Thames River Railroad Bridge, position 41°21′46″N, 072°05′23″ W (NAD 1983), then to position 41°21′46″N, 072°05′16″ W (NAD 1983), then south along the western limit of the Federal Channel to position 41°20′37″N, 072°05′8.7″W (NAD 1983), then to position 41°20′37″N, 072°05′33″W (NAD 1983), then along the shoreline to position 41°21′46″N, 072°05′23″W (NAD 1983). From 7:30 a.m., on July 12, 2000 through 5 p.m. on July 12, 2000, this anchorage is designated for the exclusive use of vessels participating in the Parade of Tall Ships into New London Harbor.

(10) Anchorage J. All waters of the Thames River southward of New London Harbor, on the east side of the Federal Channel within the following boundaries: beginning at a point bearing 245°T, 480 yards from Eastern Point 41°19′03″N, 072°04′48″W (NAD 1983), then to position 41°19′04″N, 072°04′33″W (NAD 1983), then to position 41°18′42″N, 072°04′30″W (NAD 1983), then to position 41°18′40″N, 072°04′45″W (NAD 1983). This area is designated for the exclusive use of commercial vessels greater than 50 feet in length carrying passengers for the viewing of the Tall Ships parade from 7:30 a.m., on July 12, 2000, until 5 p.m., on July 12, 2000.

* * * * *

PART 165—REGULATED NAVIGATION AREAS AND LIMITED ACCESS AREAS

5. The authority citation for part 165 continues to read as follows:

Authority: 33 U.S.C. 1231; 50 U.S.C. 191; 33 CFR 1.05(g), 6.04-1, 6.04-6 and 160.5; 49 CFR 1.46.

6. Add temporary § 165.T01-203 to read as follows:

§ 165.T01-203 Safety Zones: OPSAIL 2000, Port of New London, Connecticut.

(a) The following areas are established as safety zones:

(1) Safety Zone 1. Includes all waters of the Thames River in New London Harbor, in the vicinity of the State Pier within the following boundaries: beginning at a point located on the west shore line of the Thames River 25 yards below the Thames River Railroad Bridge, position 41°21′46″N, 072°05′23″W (NAD 1983), then south along the western limit of the Federal Channel to position 41°20′37″N, 072°05′8.7″W (NAD 1983), then to position 41°20′37″N, 072°05′33″W (NAD 1983), then along the shoreline to position 41°21′46″N, 072°05′23″W (NAD 1983). This safety zone will be used as a mooring and turning area for the Parade of Tall Ships at the conclusion of the parade from 7:30 a.m., on July 12, 2000 until 5 p.m., on July 12, 2000.

(2) Safety Zone 2. Includes waters of the Thames River within the following boundaries: beginning at the east side of the Federal Channel at the Thames River Rail Road Bridge in the Port of New London, in position 41°21′47.0″N, 072°05′14.0″W (NAD 1983), then southward along the east side of the Federal Channel to the New London Harbor Channel Lighted Buoy “2” (LLNR 21790) in approximate position 41°17′38″N, 072°04′40″W (NAD 1983), then to Bartlett Reef Lighted Bell Buoy “4” (LLNR 21065) in approximate position 41°15′38″N, 072°08′22″W (NAD 1983), then south to Bartlett Reef Lighted Buoy “1” (LLNR 21065) in approximate position 41°16′28″N, 072°07′54″W (NAD 1983), then to an area located, bearing 192°T, approximately 325 yards from Rapid Rock Buoy “R” (LLNR 21770) 41°17′07″N, 072°06′09″W (NAD 1983), then to position 41°18′04″N, 072°04′50″W, (NAD 1983), which meets the west side of the Federal Channel, then along the west side of the Federal Channel to the Thames River Railroad Bridge in the Port of New London, in the position 41°21′46″N, 072°05′23″W (NAD 1983). This safety zone will be used for the parade route of Tall Ships from 7:30 a.m., on July 12, 2000, until 5 p.m., on July 12, 2000.

(b) No vessel may transit within Safety Zone 1 or 2 without the express authorization of the Coast Guard Captain of the Port, Long Island Sound, or his on-scene representative. All persons and vessels shall comply with the instructions of the Coast Guard Captain of the Port or the designated on-scene patrol personnel. These personnel comprise commissioned, warrant, and petty officers of the Coast Guard. Upon being hailed by siren, radio, flashing light, or other means, the operator of the vessel shall proceed as directed.

(c) This section is applicable from 7:30 a.m. on July 12, 2000, until 5 p.m. on July 12, 2000.

Dated: June 8, 2000.
G.N. Naccara,
Rear Admiral, U.S. Coast Guard, Commander, First Coast Guard District.

[FR Doc. 00-15009 Filed 6-9-00; 3:39 pm]

BILLING CODE 4910-15-U